DEPARTMENT OF AGRICULTURE

Forest Service

Shasta-Trinity National Forest; California; Gemmill Thin

AGENCY: Forest Service, USDA.

ACTION: Notice of intent (NOI) to prepare an environmental impact statement.

SUMMARY: The Shasta-Trinity National Forest proposes to thin trees and reduce existing fuels on approximately 1,700 acres of National Forest System lands in the Gemmill Thin project. The project is in T.29 and 30 N., R.10 and 11 W., Mt. Diablo Meridian, immediately north and east of the community of Wildwood, California and south of Chanchelulla Wilderness and Roadless areas. Treatments will consist of thinning harvest to remove competing understory trees, road restroation, and removal of small trees and shrubs to protect and enhance an area designated by the Forest Land and Resource Management Plan (LRMP) as Late Successional Reserve (LSR). The project falls within a 4,800 acre analysis area which includes all or portions of Hall City Creek, Wilson Creek and Chanchelulla Creek. These creeks and many of their tributaries are also identified within the LRMP as Riparian Reserves (RR).

DATES: Comments concerning the scope of the analysis must be received no later than 30 days after the publication of this notice in the Federal Register. The draft environmental impact statement is expected in January 2006 and the final environmental impact statement is expected in April 2006.

ADDRESSES: Send written comments to Gemmill Thin Comments, South Fork Management Unit, P.O. Box 159, Hayfork, CA 96041.

FOR FURTHER INFORMATION CONTACT: Cheryl Carrothers, Gemmill Thin IDT Lead, South Fork Management Unit, P.O. Box 159, Hayfork at (530) 628-5227 or visit the Shasta-Trinity National Forest Web site at http://www.fs.fed.us/r5/shastatrinity/projects.

SUPPLEMENTARY INFORMATION:

Purpose and Need for Action

The Gemmill Thin project responds to two problems within the Upper Hayfork Creek fifth field watershed and Chanchelulla late successional reserve (LSR). 1) There is less late successional old growth (LSOG) habitat than desired; 2) The risk of losing existing and developing LSOG habitat to wildfire is increasing. Thinning the forest will improve the growing conditions for the remaining trees by making more sunlight, water and other nutrients available for use. Tree health and growth in the treated sounds would improve; LSOG habitat would development at a faster rate. Ladder fuels, the small conifers, shrubs and hardwoods in the understory, provide a conduit for fire to travel from the ground surface into the tree canopy and put the later, older trees at greater risk of loss to fire. Removing these ladder fuels greatly reduces the likelihood that wildfire will get into the canopy. The harvest and sale of cut trees provides wood products to society and offsets the cost of the proposed treatments.

Proposed Action

The proposed action is to thin trees and shrubs and reduce existing fuels. Thinning prescriptions would be based on the following guidelines:

• On approximately 600 acres in 15 stands of mixed conifer and hardwood forest, aged 100 to 150 years, implement a low thinning. Enough trees would be removed to reduce the number of stems per acre to a stocking level that maintains a greater competitive advantage for the larger older trees and to remove fuel ladders. The largest and oldest trees would be retained, with the resulting stand averaging 60% tree canopy cover.

• On approximately 1,000 acres in 23 stands of mixed conifer and hardwood forest, aged 80 to 100 years old, implement a low thinning. Enough trees would be removed to reduce the number of stems per acre to a stocking level that maintains or increases growth rates and to remove fuel ladders. The largest and healthiest trees would be retained with the resulting stand averaging 50% tree canopy cover.

A service contract would thin trees and grind up shrubs in planted stands. Thinning and release treatments would be accomplished through hand failing and mastication on approximately 100 acres in four planted conifer stands aged 20-40 years. Enough trees and shrubs would be removed to reduce the number of stems per acre to a stocking level that maintains stand growth rate and removes shrubs that act as a fuel ladder. The resulting stand would have an average of 100 trees per acre.

Responsible Official

J. Sharon Heywood, Forest Supervisor, Shasta-Trinity National Forest, 3644 Avtech Parkway, Redding, CA 96002. (530) 226-2500.

Nature of Decision To Be Made

The Forest Supervisor will decide whether to implement the proposed action, implement an alternative action that meets the purpose and need or take no action. The decision may include a non-significant forest plan amendment that permits treatment of stands older than 80 years.

Scoping Process

Notice of the proposed action will be published in the newspaper of record, the Redding Record Searchlight. It will also be published in the Trinity Journal. Scoping letters will be mailed to interested and affected publics coincident with publication of the NOI in the Federal Register and information on the proposed action will be posted on the Forest Web site at http://www.fs.fed.us/r5/shastatrinity/projects. In addition, this proposal will be presented to and reviewed by the Trinity County Firesake council. This notice of intent initiates the scoping process, which guides the development of the environmental impact statement.

Comments submitted during this scoping process should be in writing and should be specific to the proposed action. The comments should describe as clearly and completely as possible any issues the commenter has with the proposal. The results of scoping will include:

(a) Identifying potential issues.

(b) Identifying issues to be analyzed in depth.

(c) Eliminating non-significant issues or those previously covered by a relevant previous environmental analysis.

(d) Exploring additional alternatives.

(e) Identifying potential environmental effects of the proposed action and alternatives.

Preliminary Issues

No preliminary issues have been identified. Issues will be identified through scoping. Early Notice of Importance of Public Participation in Subsequent Environmental Review: A draft environmental impact statement will be prepared for comment. The comment period on the draft environment impact statement will be 45 days from the date the Environmental Protection Agency publishes the notice of availability in the Federal Register.

The Forest Service believes it is important to give reviewers notice of several court rulings related to public participation in the environmental review process.

(1) Reviewers of draft environmental impact statements must structure their participation in the environmental review of the proposal so that it is meaningful and alerts an agency to the reviewer's position and contentions. [Vermont Yankee Nuclear Power Corp. v. NRDC, 435 U.S. 519, 553 (1978)].

(2) Environmental objections that could be raised by the draft environmental impact statement stage but are not raised until after completion of the final environmental impact statement may be waived or dismissed by the courts [City of Angoon v. Hodel, 803 F.2d 1016, 1022 (9th Cir. 1986) and Wisconsin Heritages, Inc. v. Harris, 490 F. Supp. 1334, 1338 (E.D. Wis. 1980)].

Because of these court rulings, it is very important that those interested in this proposed action participate by the close of the 45 day comment period so that substantive comments and objections and received in time for meaningful consideration and response in the final environmental impact statement.

Comments on the draft environmental impact statement should be as specific as possible, for example, refer to specific pages and/or chapters. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21.)

Dated: December 5, 2005.
J. Sharon Heywood,
Forest Supervisor, Shasta-Trinity National Forest.

[FR Doc. 05-23894 Filed 12-9-05; 8:45 am]

BILLING CODE 3410-11-M